DEPARTMENT OF TRANSPORTATION

Federal Aviation Administration

14 CFR Part 97

[Docket No. 30536; Amdt. No. 3206]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective February 21, 2007. The compliance date for each SIAP and/or Weather Takeoff Minimums is specified in the amendatory provisions.

The incorporation by reference of certain publications listed in the regulations is approved by the Director of the Federal Register as of February 21, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on February 9, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 15 March 2007

Bay Minette, AL, Bay Minette Muni, RNAV (GPS) RWY 8, Orig

Bay Minette, AL, Bay Minette Muni, VOR RWY 8, Amdt 8

Bay Minette, AL, Bay Minette Muni, GPS RWY 8, Orig, CANCELLED

Bay Minette, AL, Bay Minette Muni, RNAV (GPS) RWY 26, Orig

Bay Minette, AL, Bay Minette Muni, Takeoff Minimums and Textual DP, Orig

Gulf Shores, AL, Jack Edwards, RNAV (GPS) RWY 9, Amdt 2

Gulf Shores, AL, Jack Edwards, RNAV (GPS) RWY 27, Amdt 1

Gulf Shores, AL, Jack Edwards, Takeoff Minimums and Textual DP, Orig

Williston, FL, Williston Muni, RNAV (GPS) RWY 5, Orig

Williston, FL, Williston Muni, RNAV (GPS) RWY 23, Orig

Williston, FL, Williston Muni, VOR RWY 23, Amdt 1

Williston, FL, Williston Muni, GPS RWY 23, Orig-A, CANCELLED

Williston, FL, Williston Muni, Takeoff Minimums and Textual DP, Amdt 2

Hammond, LA, Hammond Northshore Regional, VOR RWY 31, Amdt 4

Baltimore, MD, Baltimore/Washington Intl Thurgood Marshall, Takeoff Minimums and Textual DP, Amdt 8

Hagerstown, MD, Hagerstown Regional-Richard A. Henson Field, LOC RWY 9, Orig

Willmar, MN, Willmar Muni, ILS OR LOC RWY 13, Orig

Potosi, MO, Washington County, RNAV (GPS) RWY 2, Orig

Potosi, MO, Washington County, RNAV (GPS) RWY 20, Orig

Potosi, MO, Washington County, Takeoff Minimums and Textual DP, Orig

Haverhill, NH, Dean Memorial, RNAV (GPS) RWY 19, Orig

Haverhill, NH, Dean Memorial, Takeoff Minimums and Textual DP, Orig

Nashua, NH, Boire Fld, RNAV (GPS) RWY 32, Orig

Nashua, NH, Boire Fld, GPS RWY 32, Orig, CANCELLED

Atlantic City, NJ, Atlantic City International, COPTER ILS OR LOC/DME RWY 13, Amdt 1

Atlantic City, NJ, Atlantic City International, Takeoff Minimums and Textual DP, Orig

Berlin, NJ, Camden County, RNAV (GPS) RWY 5, Orig

Berlin, NJ, Camden County, RNAV (GPS) RWY 23, Orig

Berlin, NJ, Camden County, GPS RWY 5, Orig-A, CANCELLED

Berlin, NJ, Camden County, GPS RWY 23, Orig, CANCELLED

Oklahoma City, OK, Will Roger World, RNAV (RNP) Y RWY 17L, Amdt 1

Oklahoma City, OK, Will Roger World, RNAV (GPS) Z RWY 17L, Amdt 1

Oklahoma City, OK, Will Roger World, RNAV (RNP) Z RWY 35R, Orig-A

Oklahoma City, OK, Will Roger World, Takeoff Minimums and Textual DP, Orig

Philadelphia, PA, Philadelphia Intl, RNAV (GPS) RWY 27L, Amdt 1A

Anderson, SC, Anderson Rgnl, RNAV (GPS) RWY 5, Amdt 1

Anderson, SC, Anderson Rgnl, RNAV (GPS) RWY 17, Orig

Anderson, SC, Anderson Rgnl, RNAV (GPS) RWY 23, Orig

Anderson, SC, Anderson Rgnl, RNAV (GPS) RWY 35, Orig

Anderson, SC, Anderson Rgnl, GPS RWY 23, Orig-B, CANCELLED

Anderson, SC, Anderson Rgnl, VOR RWY 5, Amdt 10

Greenville, SC, Donaldson Center, RNAV (GPS) RWY 5, Orig

Greenville, SC, Donaldson Center, RNAV (GPS) RWY 23, Orig

Greenville, SC, Donaldson Center, Takeoff Minimums and Textual DP, Orig

Athens, TN, McMinn County, RNAV (GPS) RWY 20, Orig

Athens, TN, McMinn County, NDB RWY 20, Amdt 6

Dickson, TN, Dickson Muni, RNAV (GPS) RWY 17, Amdt 1

Arlington, TX, Arlington Muni, Takeoff Minimums and Textual DP, Amdt 2

Dallas, TX, Addison, Takeoff Minimums and Textual DP, Amdt 4

Dallas, TX, Dallas Executive, Takeoff Minimums and Textual DP, Amdt 6

Dallas-Fort Worth, TX, Dallas/Fort Worth International, Takeoff Minimums and Textual DP, Amdt 4

Fort Worth, TX, Fort Worth Alliance, Takeoff Minimums and Textual DP, Orig

Fort Worth, TX, Fort Worth Meacham Intl, Takeoff Minimums and Textual DP, Amdt 6

Oak Harbor, WA, Wes Lupien, RNAV (GPS) RWY 7, Amdt 1

Seattle, WA, Seattle-Tacoma Intl, ILS OR LOC RWY 16L; ILS RWY 16L (CAT II); ILS RWY 16L (CAT III), Amdt 3A

Big Piney, WY, Miley Mem Field, GPS RWY 31, Orig-B

Pinedale, WY, Ralph Wenz Field, RNAV (GPS) RWY 11, Orig-A

Pinedale, WY, Ralph Wenz Field, RNAV (GPS) RWY 29, Orig-A

Pinedale, WY, Ralph Wenz Field, NDB RWY 29, Amdt 1A

Effective 12 April 2007

Victorville, CA, Southern California Logistics, Takeoff Minimums and Textual DP, Amdt 2

Effective 10 May 2007

Akhiok, AK, Akhiok, RNAV (GPS)-A, Orig

Akhiok, AK, Akhiok, Takeoff Minimums and Textual DP, Orig

[FR Doc. E7-2691 Filed 2-20-07; 8:45 am]

BILLING CODE 4910-13-P